DEPARTMENT OF ENERGY

Federal Energy Regulatory Commission

Combined Notice of Filings No. 2

June 15, 2009.

Take notice that the Commission has received the following Natural Gas Pipeline Rate and Refund Report filings:

Docket Numbers: RP96-359-042.

Applicants: Transcontinental Gas Pipe Line Company.

Description: Transcontinental Gas Pipe Line Company, LLC. submits First Revised Sheet 29 to its FERC Gas Tariff, Fourth Revised Volume 1, to be effective 5/1/09.

Filed Date: 06/11/2009.

Accession Number: 20090612-0021.

Comment Date: 5 p.m. Eastern Time on Tuesday, June 23, 2009.

Docket Numbers: RP09-540-001.

Applicants: Northern Border Pipeline Company.

Description: Northern Border Pipeline Company submits Substitute Eighth Revised Sheet No. 276 et al., to FERC Gas Tariff, First Revised Volume No. 1.

Filed Date: 06/12/2009.

Accession Number: 20090612-0050.

Comment Date: 5 p.m. Eastern Time on Wednesday, June 24, 2009.

Docket Numbers: RP09-556-001.

Applicants: Texas Gas Transmission, LLC.

Description: Explanation of Texas Gas Transmission, LLC.

Filed Date: 06/12/2009.

Accession Number: 20090612-5074.

Comment Date: 5 p.m. Eastern Time on Wednesday, June 24, 2009.

Docket Numbers: RP96-200-215.

Applicants: CenterPoint Energy Gas Transmission Co.

Description: CenterPoint Energy Gas Transmission Co., submits a negotiated rate agreement with Cross Timbers Energy Services.

Filed Date: 06/12/2009.

Accession Number: 20090612-0047.

Comment Date: 5 p.m. Eastern Time on Wednesday, June 24, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-15264 Filed 6-26-09; 8:45 am]

BILLING CODE 6717-01-P